DEPARTMENT OF AGRICULTURE

Forest Service

Colville Resource Advisory Committee (RAC)

AGENCY: Forest Service, USDA.

ACTION: Notice of meeting.

SUMMARY: The Colville Resource Advisory Committee will meet on Wednesday, July 27, 2005, at the Spokane Community College, Colville Campus, 985 South Elm Street, Colville, Washington 99114. The meeting will begin at 9 a.m. and conclude at 4 p.m. Agenda items include: (1) welcome, (2) review and approve meeting notes from June 30, 2005, meeting, (3) Fiscal Year 2006 Title II projects review and recommendation to the forest designated Federal official for Pend Oreille County applications; and (4) Public Forum.

FOR FURTHER INFORMATION CONTACT: Direct questions regarding this meeting to Craig Newman, Acting Forest Supervisor or to Diana Baxter, Public Affairs Officer, Colville National Forest, 765 S. Main, Colville, Washington 99114, (509) 684-7000.

Dated: July 11, 2005.
Craig Newman,
Acting Forest Supervisor—Colville N.F.

[FR Doc. 05-14065 Filed 7-15-05; 8:45 am]

BILLING CODE 3410-11-M